DEPARTMENT OF COMMERCE

International Trade Administration

[A-201-802]

Gray Portland Cement and Clinker: Notice of Extension of Time Limits for Preliminary Results of Antidumping Duty Administrative Review

AGENCY: Import Administration, International Trade Administration, Department of Commerce.

ACTION: Notice of extension of time limits for preliminary results of antidumping duty administrative review.

SUMMARY: The Department of Commerce is extending the time limit for the preliminary results of the administrative review of the antidumping duty order on gray portland cement and clinker from Mexico. The period of review is August 1, 2000, through July 31, 2001.

EFFECTIVE DATE: April 12, 2002.

FOR FURTHER INFORMATION CONTACT: Hermes Pinilla or Mark Ross, AD/CVD Enforcement, Import Administration, International Trade Administration, U.S. Department of Commerce, 14th Street and Constitution Avenue, N.W., Washington, D.C. 20230; telephone: (202) 482-3477 or (202) 482-4794, respectively.

SUPPLEMENTARY INFORMATION:

The Applicable Statute

Unless otherwise indicated, all citations to the Tariff Act of 1930, as amended (the Act), by the Uruguay Round Agreements Act are references to the provisions effective January 1, 1995, the effective date of the amendments made to the Act.

Extension of Time Limit for Preliminary Results

The Department of Commerce (the Department) received a request to conduct an administrative review of the antidumping duty order on gray portland cement and clinker from Mexico. On October 1, 2001, the Department published the notice of initiation for this administrative review (66 FR 49924). The period of review is August 1, 2000, through July 31, 2001. The deadline for completing the preliminary results of the review is May 3, 2002.

In this review, complex issues exist regarding product matching (e.g., comparability between the U.S. cement product specifications and the new Mexican cement product specifications). Due to the complexity of these issues and the constraints on the Department's resources available to analyze it appropriately, given the number of proceedings currently before the Department, the Department determines that it is not practicable to complete the preliminary results of this review within the statutory time limit. Therefore, the Department is extending the time limit for the preliminary results in this review to August 31, 2002. This extension of the time limit is in accordance with section 751(a)(3)(A) of the Act. The Department intends to issue the final results of review 120 days after the publication of the preliminary results.

Dated: April 5, 2002.
Richard W. Moreland,
Deputy Assistant Secretary for Import Administration.

[FR Doc. 02-8960 Filed 4-11-02; 8:45 am]

BILLING CODE 3510-DS-S